DEPARTMENT OF AGRICULTURE

Commodity Credit Corporation

7 CFR Part 1481

RIN: 0560-AG41

Limited California Cooperative Insolvency Payment Program

AGENCY: Commodity Credit Corporation, Agriculture.

ACTION: Correction to final rule.

SUMMARY: This document corrects the definition of “member” in the final rule published in the Federal Register of March 13, 2001 (66 FR 14479), regarding the Limited California Cooperative Insolvency Payment Program. The correction clarifies that producers who had a 2000-crop Assignment Contract to produce an eligible commodity for the Tri Valley Growers cooperative for a member of Tri Valley Growers is eligible to apply for a payment under the Limited California Cooperative Insolvency Payment Program.

EFFECTIVE DATE: April 9, 2001.

FOR FURTHER INFORMATION CONTACT: Toni D. Williams, 202-720-2270.

Correction

Accordingly, in the final rule published March 13, 2001, (66 FR 14479) make the following correction:

PART 1481—[CORRECTED]

In the final rule, beginning on page 14479 in the issue of March 13, 2001, make the following correction, in § 1481.3, the definitions section. On page 14481 in the second column, remove the definition of “members” and add the following definition in its place:

§ 1481.3 Definitions.

* * * * *

Member means a grower that grew or produced, under a contract, an eligible commodity for TVG as a member or as a producer with a 2000-crop Assignment Contract to produce for a member of TVG during crop year 2000.

* * * * *

Signed at Washington, DC, on April 6, 2001.
James R. Little,
Acting Executive Vice President, Commodity Credit Corporation.

[FR Doc. 01-9062 Filed 4-9-01; 3:05 pm]

BILLING CODE 3410-05-P